NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

DATE AND TIME: Tuesday, October 2, 2007, at 8:30 a.m.; and Wednesday, October 3, 2007 at 8:15 a.m.

PLACE: National Science Foundation, 4201 Wilson Blvd., Room 1235, Arlington, VA 22230. All visitors must report to the NSF visitor desk at the 9th and N. Stuart Streets entrance to receive a visitor's badge.

STATUS: Some portions open, some portions closed.

Open Sessions

October 2, 2007

8:30 a.m.-9 a.m.

9 a.m.-9:30 a.m.

9:30 a.m.-10 a.m.

10 a.m.-11:30 a.m.

1 p.m.-1:50 p.m.

2:15 p.m.-2:30 p.m.

2:30 p.m.-4:30 p.m.

4:30 p.m.-5 p.m.

October 3, 2007

8:15 a.m.-8:30 a.m.

9 a.m.-11 a.m.

11 a.m.-12:30 p.m.

2 p.m.-3 p.m.

Closed Sessions

October 2, 2007

1:50 p.m.-2:15 p.m.

October 3, 2007

8:30 a.m.-9 a.m.

1:30 p.m.-1:45 p.m.

1:45 p.m.-2 p.m.

AGENCY CONTACT: Dr. Robert E. Webber, rwebber@nsf.gov, (703) 292-7000, http://www.nsf.gov/nsb/.

Matters To Be Discussed

Tuesday, October 2, 2007

CPP Subcommittee on Polar Issues

Open: 8:30 a.m.-9 a.m.

• Approval of August Minutes.

• Subcommittee Chairman's Remarks.

• Office of Polar Programs Director's Report.

• Progress and Status of the IceCube Construction Project.

CPP Task Force on Transformative Research

Open: 9 a.m.-9:30 a.m.

• Approval of Minutes for August 2007 Meeting.

• Task Force Chairman's Remarks.

• Further Review of Transformative Research Initiative by NSF.

CPP Task Force on International Science

Open: 9:30 a.m.-10 a.m.

• Approval of Minutes.

• Task Force Chairman Remarks.

• Discussion of the Draft Task Force Report on International Science and Engineering Partnerships.

EHR Subcommittee on Science and Engineering Indicators

Open: 10 a.m.-11:30 a.m.

• Approval of August Minutes.

• Subcommittee Chairman's Remarks.

• Proposed Statistical Appendix.

• Draft Overview Chapter.

• Science and Engineering Indicators 2008 “Digest”.

• Science and Engineering Indicators 2008 Companion Piece.

• Science and Engineering Indicators 2010.

• Subcommittee Chairman's Summary.

Committee on Audit and Oversight

Open: 1 p.m.-1:50 p.m.

• Approval of Minutes of the August 7, 2007 Meeting.

• Committee Chairman's Opening Remarks.

• Chief Financial Officer's Update.

• OIG Audit Plan for FY 2008.

• Committee Chairman's Closing Remarks.

Closed: 1:50 p.m.-2:15 p.m.

• Approval of Minutes of the July 30, 2007 Executive Closed Teleconference.

• Pending Investigations.

Committee on Programs and Plans

Open: 2:15 p.m.-2:30 p.m.

• Discussion Item: Future Plans and Charge for Proposed Task Force on Sustainable Energy.

Committee on Education and Human Resources

Open: 2:30 p.m.-4:30 p.m.

• Approval of August 2007 Minutes.

• Committee Chairman's Remarks.

• STEM Education and Human Resources: America COMPETES.

• Report of Subcommittee on Science and Engineering Indicators.

• Approval of Recommendations for “Moving Forward to Improve Engineering Education”.

• Preparing the Next Generation of STEM Innovators.

• Involvement of Higher Education STEM Faculty in Preparing K-12 Teachers.

• Approval of Action Plan for STEM Education.

• Board Executive Officer's Report.

Plenary Open

Open: 4:30 p.m.-5 p.m.

• STEM Education Action Plan.

Wednesday, October 3, 2007

Executive Committee

Open: 8:15 a.m.-8:30 a.m.

• Approval of Minutes for August 2007.

• Executive Committee Chairman's Remarks.

• Updates or New Business from Committee Members.

Committee on Programs and Plans

Closed: 8:30 a.m.-9 a.m.

• NSB Action Item: EarthScope Facility Operations and Maintenance: FY 2008-FY 2012.

Open: 9 a.m.-11 a.m.

• Approval of August 2007 CPP Minutes.

• Committee Chairman's Remarks.

• Status Report:

○ Task Force on International Science.

• Action Item: Revision to NSB Thresholds Policy.

• Discussion Item: Facilities Operations and Management.

• Status Reports:

○ Subcommittee on Polar Issues.

○ Task Force on Transformative Research.

• Discussion Item: NSB Policy on Recompetition of NSF Awards.

• Information Item: Deep Underground Science and Engineering Laboratory (DUSEL).

• Information Item: Advanced Laser Interferometer Gravitational-Wave Observatory (AdvLIGO) Project.

• Committee Chairman's Remarks.

Committee on Strategy and Budget

Open: 11 a.m.-12:30 p.m.

• Approval of CSB Minutes, August 28, 2007.

• Committee Chairman's Remarks.

• Follow-up Discussion of the Report of the NSF Working Group on the Impact of Proposal and Award Management Mechanisms (IPAMM).

• Development of Recommendations on NSF Average Award Size, Duration, and Proposal Success Rate.

• Discussion of CSB ad hoc Task Group on Cost-Sharing.

• Status of NSF FY 2008 Budget Request.

Plenary Executive Closed

Closed: 1:30 p.m.-1:45 p.m.

• Approval of August 2007 Minutes.

• Board Member Proposals.

Plenary Closed

Closed: 1:45 p.m.-2 p.m.

• Approval of August 2007 Minutes.

• Awards and Agreements.

• Closed Committee Reports.

Plenary Open

Open: 2 p.m.-3 p.m.

• Approval of August 2007 Minutes.

• Resolution to Close December 2007 Meeting.

• Chairman's Report.

• Director's Report.

• Open Committee Reports.

Michael P. Crosby,
Executive Officer and Board Office Director.

[FR Doc. E7-19058 Filed 9-26-07; 8:45 am]

BILLING CODE 7555-01-P